DEPARTMENT OF COMMERCE

National Oceanic and Atmospheric Administration

[RTID 0648-XE985]

South Atlantic Fishery Management Council (Council); Public Meetings

AGENCY: National Marine Fisheries Service (NMFS), National Oceanic and Atmospheric Administration (NOAA), Commerce.

ACTION: Notice of the South Atlantic Fishery Management Council's Habitat and Ecosystem Advisory Panel Meeting.

SUMMARY: The Council will hold a meeting of the Habitat and Ecosystem Advisory Panel Tuesday, July 15, 2025 through Thursday, July 17, 2025.

DATES: The Habitat and Ecosystem Advisory Panel (AP) meeting will be held July 15, 2025, from 1 p.m. until 5 p.m.; July 16, 2025, from 8:30 a.m. until 4:30 p.m.; and July 17, 2025, from 8:30 a.m. until 1 p.m., EDT.

ADDRESSES:

Council address: South Atlantic Fishery Management Council, 4055 Faber Place Drive, Suite 201, N Charleston, SC 29405.

Meeting Address: The meeting will be held at the Doubletree by Hilton North Charleston Convention Center, 5264 International Blvd., North Charleston, SC 29418. 843-576-0300.

The meeting will also be available via webinar. Registration is required. Webinar registration, an online public comment form, and briefing book materials will be available two weeks prior to the meeting at: https://safmc.net/advisory-panel-meetings/.

FOR FURTHER INFORMATION CONTACT: Kathleen Howington, Habitat and Ecosystem Scientist, Kathleen.howington@safmc.net; phone: (843) 725-7580.

SUPPLEMENTARY INFORMATION: The Habitat and Ecosystem AP will discuss the revisions to the Council's Alterations to Riverine, Estuarine and Nearshore Flows Policy and the Food Webs and Connectivity Policy. The AP will also discuss the impact of activities related to space exploration off the Florida coast on habitat. The AP will receive their annual summary of projects that were commented on by the Habitat Conservation Division of NOAA and a summary from the National Centers for Coastal Ocean Science on Beneficial Use projects and their impacts on habitat. AP members will receive a presentation on fish mortality that occurred within the vicinity of Coastal Virginia Offshore Wind construction as well as a presentation on the habitat impacts of telecommunication subsea fiber cables to inform the AP of potential impacts future wind energy development may have on the surrounding South Atlantic habitat. The AP will receive an update on the Council's Resilient Fisheries Projects and Changing Ecosystems and Fisheries projects, review the Habitat and Ecosystem AP outreach and communication plan, the AP work plan, and discuss an approach for the next Essential Fish Habitat 5-year review. The AP will provide recommendations to the Council on other topics as needed.

Special Accommodations

These meetings are physically accessible to people with disabilities. Requests for auxiliary aid should be directed to the Council office (see ADDRESSES) five (5) days prior to the meeting.

Note: The times and sequence specified in this agenda are subject to change.

Authority: 16 U.S.C. 1801 et seq.

Dated: June 24, 2025
Rey Israel Marquez,
Acting Deputy Director, Office of Sustainable Fisheries, National Marine Fisheries Service.

[FR Doc. 2025-11810 Filed 6-25-25; 8:45 am]

BILLING CODE 3510-22-P